ENVIRONMENTAL PROTECTION AGENCY

[FRL-9922-70-OEI]

Agency Information Collection Activities OMB Responses

AGENCY: Environmental Protection Agency (EPA).

ACTION: Notice.

SUMMARY: This document announces the Office of Management and Budget (OMB) responses to Agency clearance requests in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 0976.17; 2015 Hazardous Waste Report, Notification of Regulated Waste Activity, and Part A Hazardous Waste Permit Application and Modification (Renewal); 40 CFR parts 262, 262.41, 263, 264, 264.75, 265, 266, 270, 273, and 279; 42 CFR parts 262, 263, 264, 265, 266, 270, 273, and 279; was approved with change on 1/28/2015; OMB Number 2050-0024; expires on 1/31/2017.

Comment Filed

EPA ICR Number 2465.02; NSPS for Greenhouse Gas Emissions for New Electric Utility Generating Units (40 CFR part 60, subpart TTTT) (Proposed Rule); 40 CFR part 60, subpart TTTT; OMB filed comment on 1/20/2015.

Courtney Kerwin,
Acting Director, Collections Strategies Division.

[FR Doc. 2015-05934 Filed 3-13-15; 8:45 am]

BILLING CODE 6560-50-P